DEPARTMENT OF HOUSING AND URBAN DEVELOPMENT

[Docket No. FR-5480-N-04]

Notice of Submission of Proposed Information Collection to OMB; American Housing Survey

AGENCY: Office of the Chief Information Officer, HUD.

ACTION: Notice.

SUMMARY: The proposed information collection requirement described below has been submitted to the Office of Management and Budget (OMB) for review, as required by the Paperwork Reduction Act. The Department is soliciting public comments on the subject proposal.

The American Housing Survey (AHS) provides a periodic measure of the size and composition of the country's housing inventory. Title 12, United States Code, Sections 1701Z-1, 1701Z- 2(g), and 1710Z-10a mandate the collection of this information.

Like the previous surveys, the 2011 AHS collects data on subjects such as the amount and types of changes in the inventory, the physical condition of the inventory, the characteristics of the occupants, housing costs, the persons eligible for and beneficiaries of assisted housing, and the number and characteristics of vacancies. The 2011 AHS will collect additional data on potential health and safety hazards in the home and modifications made to assist occupants living with disabilities. Selected neighborhood and journey to work questions will not be collected in the 2011 survey and the mortgage questions will be redesigned. There is no AHS-Metropolitan Sample in the 2011 survey. But, a supplemental sample of housing units will be selected for 30 metropolitan areas. The supplemental sample will be combined with existing sample in these areas in order to produce metropolitan estimates using the National data.

Policy analysts, program managers, budget analysts, and Congressional staff use AHS data to advise executive and legislative branches about housing conditions and the suitability of public policy initiatives. Academic researchers and private organizations also use AHS data in efforts of specific interest and concern to their respective communities.

The Department of Housing and Urban Development (HUD) needs the AHS data for two important uses.

1. With the data, policy analysts can monitor the interaction among housing needs, demand and supply, as well as changes in housing conditions and costs, to aid in the development of housing policies and the design of housing programs appropriate for different target groups, such as first-time home buyers and the elderly.

2. With the data, HUD can evaluate, monitor, and design HUD programs to improve efficiency and effectiveness.

DATES: Comments Due Date: February 14, 2011.

ADDRESSES: Interested persons are invited to submit comments regarding this proposal. Comments should refer to the proposal by name and/or OMB approval Number (2528-0017) and should be sent to: HUD Desk Officer, Office of Management and Budget, New Executive Office Building, Washington, DC 20503; fax: 202-395-5806. E-mail: OIRA_Submission@omb.eop.gov.

FOR FURTHER INFORMATION CONTACT: Colette Pollard, Reports Management Officer, QDAM, Department of Housing and Urban Development, 451 Seventh Street, SW., Washington, DC 20410; e-mail Colette Pollard at Colette.Pollard@hud.gov; or telephone (202) 402-3400. This is not a toll-free number. Copies of available documents submitted to OMB may be obtained from Ms. Pollard.

SUPPLEMENTARY INFORMATION: This notice informs the public that the Department of Housing and Urban Development has submitted to OMB a request for approval of the Information collection described below. This notice is soliciting comments from members of the public and affecting agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This Notice Also Lists the Following Information

Title of Proposal: 2011 American Housing Survey.

OMB Approval Number: 2528-0017.

Form Numbers: Computerized Versions of AHS-21, AHS-22 and AHS-23.

Description of the Need for the Information and Its Proposed Use: The American Housing Survey (AHS) provides a periodic measure of the size and composition of the country's housing inventory. Title 12, United States Code, Sections 1701Z-1, 1701Z- 2(g), and 1710Z-10a mandate the collection of this information.

Like the previous surveys, the 2011 AHS collects data on subjects such as the amount and types of changes in the inventory, the physical condition of the inventory, the characteristics of the occupants, housing costs, the persons eligible for and beneficiaries of assisted housing, and the number and characteristics of vacancies. The 2011 AHS will collect additional data on potential health and safety hazards in the home and modifications made to assist occupants living with disabilities. Selected neighborhood and journey to work questions will not be collected in the 2011 survey and the mortgage questions will be redesigned. There is no AHS-Metropolitan Sample in the 2011 survey. But, a supplemental sample of housing units will be selected for 30 metropolitan areas. The supplemental sample will be combined with existing sample in these areas in order to produce metropolitan estimates using the National data.

Policy analysts, program managers, budget analysts, and Congressional staff use AHS data to advise executive and legislative branches about housing conditions and the suitability of public policy initiatives. Academic researchers and private organizations also use AHS data in efforts of specific interest and concern to their respective communities.

The Department of Housing and Urban Development (HUD) needs the AHS data for two important uses.

1. With the data, policy analysts can monitor the interaction among housing needs, demand and supply, as well as changes in housing conditions and costs, to aid in the development of housing policies and the design of housing programs appropriate for different target groups, such as first-time home buyers and the elderly.

2. With the data, HUD can evaluate, monitor, and design HUD programs to improve efficiency and effectiveness.

Members of Affected Public: Households.

Frequency of Submission: Biennially.

Estimation of the Total Number of Hours Needed To Prepare the Information
Interview type: (A) Name | Interview type: (B) Definition | Total addresses: (C) AHS | Respondent burden combined: (D) Avg min per intv | Respondent burden combined: (E) Total hours
Occupied | Sampled addresses with one or more residents | 138,700 | 49 | 113,272
Vacant | Sampled addresses intended for occupancy but currently without residents | 22,800 | 20 | 7,600
Noninterview | Sampled addresses not intended for occupancy or occupants refuse to participate | 28,500 | 0 | 0
Total Addresses for Data Collection (DC) | 190,000 |  |
Reinterview | Second quality control check interview at 7 percent of the above sampled addresses | 13,300 | 10 | 2,217
Total DC and Reinterview Addresses/Burden Hours | 203,300 |  | 123,088
Computations:
Total Hours = (Average Minutes per Case * Total Addresses)/60

Status: Extension of a currently approved collection.

Authority: Section 3507 of the Paperwork Reduction Act of 1995, 44 U.S.C. 35, as amended.

Dated: January 10, 2011.
Colette Pollard,
Departmental Reports Management Officer, Office of the Chief Information Officer.

[FR Doc. 2011-820 Filed 1-13-11; 8:45 am]

BILLING CODE 4210-67-P